DEPARTMENT OF AGRICULTURE

Forest Service

Lake Tahoe Basin Federal Advisory Committee

AGENCY: Forest Service, USDA.

ACTION: Notice of meeting.

SUMMARY: The Lake Tahoe Basin Federal Advisory Committee will hold a meeting on October 26, 2002, at the Tahoe Seasons Resort, 3901 Saddle Rd., South Lake Tahoe, CA 96150. The Committee, established by the Secretary of Agriculture on December 15, 1998, (64 FR 2876) is chartered to provide advice to the Secretary on implementing the terms of the Federal Interagency Partnership on the Lake Tahoe Region and other matters raised by the Secretary.

DATES: The meeting will be held October 26, 2002, beginning at 1 p.m. and ending at 4:30 p.m.

ADDRESSES: The meeting will be held at Tahoe Seasons Resort, 3901 Saddle Rd., South Lake Tahoe, CA 96150.

FOR FURTHER INFORMATION CONTACT: Maribeth Gustafson or Jeannie Stafford, Lake Tahoe Basin Management Unit, Forest Service, 870 Emerald Bay Road Suite 1, South Lake Tahoe, CA 96150, (530) 573-2642.

SUPPLEMENTARY INFORMATION: The committee will meet jointly with the Federal Interagency Partnership's Lake Tahoe Basin Executives Committee and the Tahoe Regional Executive Committee. Items to be covered on the agenda include: (1) orientation of new members; (2) guest speaker; (3) Committee focus for 2002 through 2004; and (4) open public comment. All Lake Tahoe Basin Federal Advisory Committee meetings are open to the public. Interested citizens are encouraged to attend. Issues may be brought to the attention of the Committee during the open public comment period at the meeting or by filing written statements with the secretary for the Committee before or after the meeting. Please refer any written comments to the Lake Tahoe Basin Management Unit at the contact address stated above.

Dated: October 7, 2002.
Edmund A. Gee,
Deputy Forest Supervisor.

[FR Doc. 02-26206 Filed 10-15-02; 8:45 am]

BILLING CODE 3410-11-M